DEPARTMENT OF TRANSPORTATION

Federal Aviation Administration

[Summary Notice No. PE-2001-29]

Petitions for Exemption; Summary of Petitions Received; Dispositions of Petitions Issued

AGENCY: Federal Aviation Administration (FAA), DOT.

ACTION: Notice of dispositions of prior petitions.

SUMMARY: Pursuant to FAA's rulemaking provisions governing the application, processing, and disposition of petitions for exemption part 11 of Title 14, Code of Federal Regulations (14 CFR), this notice contains a summary of certain dispositions of certain petitions previously received, and corrections. The purpose of this notice is to improve the public's awareness of, and participation in, this aspect of FAA's regulatory activities. Neither publication of this notice nor the inclusion or omission of information in the summary is intended to affect the legal status of any petition or its final disposition.

FOR FURTHER INFORMATION CONTACT: Forest Rawls (202) 267-8033, or Vanessa Wilkins (202) 267-8029 Office of Rulemaking (ARM-1), Federal Aviation Administration, 800 Independence Avenue, SW., Washington, DC 20591.

This notice is published pursuant to §§ 11.85 and 11.91.

Issued in Washington, DC, on March 16, 2001.
Donald P. Byrne,
Assistant Chief Counsel for Regulations.

Dispositions of Petitions

Docket No.: FAA-2001-9136.

Petitioner: Evergreen International Airlines, Inc.

Section of the 14 CFR Affected: 14 CFR Special Federal Aviation Regulation No. 79.

Description of Relief Sought/Disposition: To operate a one-time flight to Pyongyang, the capital city of the Democratic People's Republic of Korea, on or about April 1, 2001. Grant, 03/25/2001, Exemption No. 7477.

Docket No.: 29742.

Petitioner: National Airlines, Inc.

Section of the 14 CFR Affected: 14 CFR section V, paragraph B of appendix I to part 121.

Description of Relief Sought/Disposition: To permit National employees who perform a safety-sensitive function and who are required to undergo a medical examination under 14 CFR part 67 to be excluded from periodic drug testing. Denial, 03/20/2001, Exemption No. 7470.

Docket No.: FAA-2001-8984.

Petitioner: Mr. Roger J. Nilsen.

Section of the 14 CFR Affected: 14 CFR 121.383(c).

Description of Relief Sought/Disposition: To permit Mr. Nilsen to act as a pilot in operations conducted under part 121 after reaching his 60th birthday. Denial, 03/12/2001, Exemption No. 7464.

Docket No.: FAA-2000-8352.

Petitioner: Mr. Kevin Louis Abel.

Section of the 14 CFR Affected: 14 CFR 61.153(a).

Description of Relief Sought/Disposition: To permit Mr. Abel to obtain an airline transport pilot (ATP) certificate before reaching 23 years of age. Denial, 03/26/2001, Exemption No. 7472.

Docket No.: FAA-2000-8462.

Petitioner: National Warplane Museum.

Section of the 14 CFR Affected: 14 CFR 91.315, 119.5(g), and 119.21(a).

Description of Relief Sought/Disposition: To permit NWM to carry passengers on local flights for compensation or hire in its limited category Boeing B-17 aircraft in support of the NWM's fundraising efforts. Grant, 03/26/2001, Exemption No. 7474.

Docket No.: FAA-2000-8182.

Petitioner: Washoe County Sheriff's Office.

Section of the 14 CFR Affected: 14 CFR 61.113(e).

Description of Relief Sought/Disposition: To permit members of the Washoe County Sheriff's Air Squadron who hold private pilot certificates to continue to be reimbursed for fuel, oil, and maintenance expenses incurred while performing search and location missions for the Sheriff's Office. Grant, 03/26/2001, Exemption No. 7473.

Docket No.: FAA-2001-8678.

Petitioner: Lufthansa Technik.

Section of the 14 CFR Affected: 14 CFR 25.785(j).

Description of Relief Sought/Disposition: To allow the installation of an interior arrangement that does not provide firm “handholds” in the aft bedroom for Boeing Model 737-700 airplane, serial number 29972. Grant, 03/27/2001, Exemption No. 7475.

Docket No.: FAA-2001-9134.

Petitioner: Aviation Services, Ltd. dba Freedom Air.

Section of the 14 CFR Affected: 14 CFR 121.314(c).

Description of Relief Sought/Disposition: To allow operation, until June 20, 2001, of one SD3-30 airplane beyond the cargo compartment modification deadline of March 19, 2001. Partial Grant, 03/15/2001, Exemption No. 7466.

Docket No.: FAA-2001-8933.

Petitioner: Pacific Island Aviation, Inc.

Section of the 14 CFR Affected: 14 CFR 121.314(c).

Description of Relief Sought/Disposition: To allow operation, until June 20, 2001, of three SD3-60 airplanes beyond the cargo compartment modification deadline of March 19, 2001. Grant, 03/15/2001, Exemption No. 7465.

Docket No.: FAA-2001-9189.

Petitioner: Pan American Airways Corp.

Section of the 14 CFR Affected: 14 CFR 25.857(c), 25.858, and 121.314(c).

Description of Relief Sought/Disposition: To permit Pan American Airways to operate six Boeing B727-200 airplanes, without being fitted with fire suppression equipment, beyond the cargo compartment modification deadline of March 19, 2001, until the conversion kits are available from the contractor, Securaplane Technologies. Denial, 03/30/2001, Exemption No. 7468.

Docket No.: FAA-2000-8525 (previously Docket No. 28545).

Petitioner: United Airlines, Inc.

Section of the 14 CFR Affected: 14 CFR 121.315(a)(3).

Description of Relief Sought/Disposition: To permit United to use electronic digital technology to document the revision level in lieu of printing the last revision date on each page of each manual required under § 121.133. Grant, 03/26/2001, Exemption No. 6612B.

Docket No.: FAA-2000-8186 (previously Docket No. 28455).

Petitioner: Sound Flight, Inc.

Section of the 14 CFR Affected: 14 CFR 135.203(a)(1).

Description of Relief Sought/Disposition: To permit Sound Flight to conduct operations under visual flight rules at an altitude below 500 feet, over water, outside controlled airspace. Grant, 03/26/2001, Exemption No. 6428B.

Docket No.: FAA-2000-8319.

Petitioner: Ms. Denita Lynn O'Jala

Section of the 14 CFR Affected: 14 CFR 65.104(a)(2).

Description of Relief Sought/Disposition: To allow Ms. O'Jala to be eligible to apply for a repairman certificate (experimental aircraft builder) for a Christen Eagle II kit airplane (registration No. N13LD, serial No. O'Connell-0001), without being the primary builder. Grant, 03/31/2001, Exemption No. 7471.

Docket No.: FAA-2001-8863 (previously Docket No. 25506).

Petitioner: Department of the Navy.

Section of the 14 CFR Affected: 14 CFR 91.215(c).

Description of Relief Sought/Disposition: To permit the Navy to provide realistic air combat training in airspace defined in the exemption as the “Transponder-Off Area.” Grant, 03/27/2001, Exemption No. 6741A.

Docket No.: FAA-2001-9128 (previously Docket No. 05010).

Petitioner: Federal Aviation Administration Aviation Systems Standards and the U.S. Air Force Flight Inspection Center.

Section of the 14 CFR Affected: 14 CFR 91.119(b) and (c), 91.159, 91.175(a) and (b), and 91.179(b).

Description of Relief Sought/Disposition: To permit the FAA AVN and the USAF FIC to deviate from certain flight rules required by subpart B of part 91 while conducting flight inspections of air navigation facilities and instrument approach procedures. Grant, 03/30/2001, Exemption No. 5118D.

[FR Doc. 01-9244 Filed 4-12-01; 8:45 am]

BILLING CODE 4910-13-M